ENVIRONMENTAL PROTECTION AGENCY

[FRL-9965-17-OA]

Notification of a Public Meeting of the Chartered Science Advisory Board

AGENCY: Environmental Protection Agency (EPA).

ACTION: Notice.

SUMMARY: The Environmental Protection Agency (EPA) Science Advisory Board (SAB) Staff Office announces a public meeting of the chartered SAB to: Conduct three quality reviews of (1) the SAB peer review of EPA's Draft Assessment entitled Toxicological Review of Hexahydro-1,3,5-trinitro-1,3,5-triazine (RDX); (2) the draft SAB report on Economy-wide Modeling of the Benefits and Costs of Environmental Regulation and (3) the draft SAB review of the EPA's Framework for Assessing Biogenic CO2 Emissions from Stationary Sources (2014); and receive briefings on SAB projects and future topics from the EPA.

DATES: The public meeting will be held on Tuesday, August 29, 2017, from 10:30 a.m. to 5:00 p.m. and Wednesday, August 30, 2016, from 9:00 a.m. to 1:00 p.m.

ADDRESSES: The meeting will be held at the Residence Inn Arlington Capital View, 2850 South Potomac Ave., Arlington, VA 22202.

FOR FURTHER INFORMATION CONTACT: Any member of the public who wants further information concerning the meeting may contact Mr. Thomas Carpenter, Designated Federal Officer (DFO), EPA Science Advisory Board (1400R), U.S. Environmental Protection Agency, 1200 Pennsylvania Avenue NW., Washington, DC 20460; via telephone/voice mail (202) 564-4885, or email at carpenter.thomas@epa.gov. General information concerning the SAB can be found on the EPA Web site at http://www.epa.gov/sab.

SUPPLEMENTARY INFORMATION:

Background: The SAB was established pursuant to the Environmental Research, Development, and Demonstration Authorization Act (ERDDAA), codified at 42 U.S.C. 4365, to provide independent scientific and technical advice to the Administrator on the scientific and technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB will hold a public meeting to discuss and deliberate on the topics below. The chartered SAB will conduct quality reviews of three draft reports. The SAB quality review process ensures that all draft reports developed by SAB panels, committees or workgroups are reviewed and approved by the Chartered SAB before being finalized and transmitted to the EPA Administrator. These reviews are conducted in a public meeting as required by FACA.

Quality Review of the draft SAB Review of EPA's Draft Assessment entitled Toxicological Review of Hexahydro-1,3,5-trinitro-1,3,5-triazine (RDX): The National Center for Environmental Assessment (NCEA) in the EPA's Office of Research and Development (ORD) develops toxicological reviews/assessments for various chemicals for IRIS. NCEA is developing a draft IRIS assessment for Hexahydro-1,3,5-trinitro-1,3,5-triazine (RDX) and has asked the SAB to peer review the draft document. The draft will be a reassessment of RDX. NCEA's draft Toxicological Review of Hexahydro-1,3,5-trinitro-1,3,5-triazine (RDX) currently posted to the IRIS database includes an oral reference dose (RfD) (posted in 1988), and a cancer descriptor and oral cancer slope factor (posted in 1990). Epidemiological data, experimental animal data, and other relevant data from studies of the noncancer and cancer effects of RDX are being evaluated in this reassessment. The reassessment is expected to include an updated RfD and oral cancer assessment. Background on the current advisory activity, IRIS Assessment for Hexahydro-1,3,5-trinitro-1,3,5-triazine (RDX) can be found on the SAB Web site at https://yosemite.epa.gov/sab/sabproduct.nsf/0/50370BADC61C408685257E380077D825?OpenDocument.

Quality Review of the draft SAB report on Economy-wide Modeling of the Benefits and Costs of Environmental Regulation: The EPA requested that the SAB provide review of the EPA's modeling and ability to measure full regulatory impacts and to make recommendations on the use of economy-wide modeling frameworks to characterize the social costs, benefits, and economic impacts of air regulations with the aim of improving benefit-cost and economic impact analyses used to inform decision-making at the agency. As a first step, the EPA has asked the SAB to provide feedback on its draft charge questions and analytic blueprint. Background on the current advisory activity, Economy-wide Modeling of the Benefits and Costs of Environmental Regulation can be found on the SAB Web site at https://yosemite.epa.gov/sab/sabproduct.nsf/LookupWebProjectsCurrentBOARD/07e67cf77b54734285257bb0004f87ed!OpenDocument&TableRow=2.1#2.

Quality review of a draft SAB review report on the Framework for Assessing Biogenic CO2 Emissions from Stationary Sources: In 2012, the SAB completed a review of the first draft accounting framework addressing scientific and technical issues associated with biogenic carbon dioxide (CO2) emissions, Accounting Framework for Biogenic CO2 Emissions from Stationary Sources (September 2011). The EPA subsequently revised the 2011 framework and requested the SAB to conduct a review of the Framework for Assessing Biogenic CO2 Emissions from Stationary Sources (November 2014). The purpose of the 2014 framework is to develop a method for calculating the adjustment, or Biogenic Assessment Factor (BAF), for carbon emissions associated with the combustion of biogenic feedstocks taking into account the biological carbon cycle effects associated with their growth, harvest and processing. The SAB convened the Biogenic Carbon Emissions Panel to review the framework. Background on the current advisory activity, Biogenic Carbon Dioxide Emissions from Stationary Sources—Assessment Framework can be found on the SAB Web site at http://yosemite.epa.gov/sab/sabproduct.nsf/fedrgstr_activites/Biogenic%20CO2%20Framework?OpenDocument.

Briefings and updates: The SAB will receive updates from SAB members on the current activities of committees and panels developing advisory reports and briefings on future topics from the EPA staff.

Availability of Meeting Materials: A meeting agenda and other materials for the meeting will be placed on the SAB Web site at http://epa.gov/sab.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to the EPA. Members of the public can submit relevant comments pertaining to the EPA's charge, meeting materials, or the group providing advice. Input from the public to the SAB will have the most impact if it provides specific scientific or technical information or analysis for the SAB to consider or if it relates to the clarity or accuracy of the technical information. Members of the public wishing to provide comment should contact the DFO directly.

Oral Statements: In general, individuals or groups requesting an oral presentation at a public meeting will be limited to five minutes. Persons interested in providing oral statements at the August 29-30, 2017, meeting should contact Mr. Thomas Carpenter, DFO, in writing (preferably via email) at the contact information noted above by August 21, 2017 to be placed on the list of registered speakers. Written Statements: Written statements for the August 29-30, 2017, meeting should be received in the SAB Staff Office by August 21, 2017, so that the information can be made available to the SAB for its consideration prior to the meeting. Written statements should be supplied to the DFO at the contact information above via email (preferred) or in hard copy with original signature. Submitters are requested to provide a signed and unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Mr. Carpenter at the phone number or email address noted above, preferably at least ten days prior to the meeting, to give the EPA as much time as possible to process your request.

Dated: July 11, 2017.
Khanna Johnston,
Acting Deputy Director, EPA Science Advisory Board Staff Office.

[FR Doc. 2017-15722 Filed 7-25-17; 8:45 am]

BILLING CODE 6560-50-P